DEPARTMENT OF JUSTICE

Notice of Lodging Proposed Consent Decree

In accordance with Departmental Policy, 28 CFR 50.7, notice is hereby given that a proposed Partial Consent Decree in United States v. Brian Chuchua, et al., (S.D. Cal.), 3:01CV1479 DMS (AJB), was lodged with the United States District Court for the Southern District of California on May 28, 2004.

This proposed Partial Consent Decree concerns a complaint filed by the United States against Brian Chuchua, Al Julian, and Joe Weber III pursuant to section 309(b) and (d) of the Clean Water Act, 33 U.S.C. 1319(b) and (d), to obtain injunctive relief from and impose civil penalties against the Defendants for violating the Clean Water Act by discharging pollutants without a permit into waters of the United States. The proposed Partial Consent Decree resolves these allegations against Defendant Joe P. Weber III by requiring Mr. Weber to pay a civil penalty.

The Department of Justice will accept written comments relating to this proposed Partial Consent Decree for thirty (30) days from the date of publication of this Notice. Please address comments to Pamela S. Tonglao, Trial Attorney, United States Department of Justice, Environment and Natural Resources Division, P.O. Box 23986, Washington, DC 20026-3986 and refer to United States v. Brian Chuchua et al., (S.D. Cal.) 3:01CV1479 DMS (AJB), DJ #90-5-1-1-16111.

The proposed Partial Consent Decree may be viewed at http://www.usdoj.gov/enrd/open.html.

Stephen Samuels,
Assistant Chief, Environmental Defense Section, Environment & Natural Resources Division.

[FR Doc. 04-13046 Filed 6-8-04; 8:45 am]

BILLING CODE 4410-15-M